DEPARTMENT OF HEALTH AND HUMAN SERVICES

Administration for Children and Families

Submission for OMB Review; Comment Request

Title: HHS/ACF Employment Retention and Advancement (ERA) Evaluation Implementation Data Collection Activities: Staff Time Study and Implementation Field Research Guide.

OMB No.: New collection.

Description: The Employment Retention and Advancement (ERA) Evaluation is the most ambitious, comprehensive effort to learn what works in this area to date and is explicitly designed to build on past research by rigorously testing a wide variety of approaches to promoting employment retention and advancement for a range of populations. The project, conceived and sponsored by the Administration for Children and Families (ACF) of the U.S. Department of Health and Human Services (HHS),¹ seeks to “conduct a multi-site evaluation that studies the net impact and cost-benefits of programs designed to help Temporary Assistance for Needy Families (TANF) recipients, former TANF recipients, or families at-risk of needing TANF benefits retain and advance in employment.” ² The ERA Evaluation involves up to 15 random assignment experiments in eight states, testing a diverse set of strategies designed to promote stable employment and/or career advancement for current and former welfare recipients and other low-income parents. Over the next several years, the ERA project will generate a wealth of rigorous data on the implementation, effects, and costs of these alternative approaches.

¹ The U.S. Department of Labor has also provided funding to support the ERA project.

² From the Department of Health and Human Services RFP No.: 105-99-8100.

The time study and field guide are part of the ERA evaluation's implementation and process analysis. This analysis is intended to inform the impact analysis and assess the feasibility and replicability of different approaches by examining the implementation of various ERA approaches, individuals' patterns of participation in ERA and other available services, and the relationship between participation and individuals' baseline characteristics and the site contexts. In particular, the time study and field guides supply information for the implementation and process analysis that are not available through other means.

Specifically, the staff time study, for which OMB authorization is requested, will be used for the following purposes in the ERA evaluation:

• To create descriptive measures of case management;

• To set up measures of program-control implementation differences within a few sites, as appropriate;

• To compare case management practices across regions or counties within sites that have varying levels of impacts;

• To compare case management practices across sites;

• To compare ERA case management practices to those delivered in the Post Employment Service Demonstration programs, which were found to be largely ineffective, and to those in the soon-to-begin United Kingdom ERA programs; and

• To identify the components of cost in preparation for a full benefit-cost analysis of the ERA programs.

In addition, the implementation field research guide, for which OMB authorization is also requested, will be used for the following purposes in the ERA evaluation:

• To describe what ERA programs set out to do and how services are delivered;

• To help explain, once impact data are available, why certain ERA programs produce or do not produce impacts;

• To identify the strengths (best practices) and weaknesses of ERA programs; and

• To formulate questions/issues for further study.

Respondents: The respondents in the ERA Staff Time Study and Field Research Guide discussions are staff from state and local agencies, non-profit program provider organizations, and for-profit program provider organizations in up to 15 ERA sites from the eight states participating in the ERA Evaluation: California, Oregon, New York, Ohio, Minnesota, Illinois, South Carolina and Texas. The field research data collection effort may also involve selected sample members, and possibly some of the supervisors of employed sample members, again in up to 15 ERA sites. Survey respondents can be grouped according to three program clusters: Advancement projects; placement and retention (hard-to-employ) projects; and mixed goal projects. All three program clusters will be administered the time study and participate in field research activities. Time study participants will have the choice of completing an electronic or paper version of the time study instrument. Approximately 519 participants will complete the time study. Approximately 450 participants will take part in the field research discussions and will not be asked to fill out any paperwork or instruments.

Annual Burden Estimates
Instrument | Number of respondents | Number of responses per respondent | Average burden hours per response | Total burden hours
Staff Time Study | 519 | 1 | 150 minutes or 2.5 hrs | 1,297.5
Field Research Discussions | 450 | 1 | 30 minutes or .5 hrs | 225.0

Estimated Total Annual Burden hours: 1,522.5.

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503. Attn: Desk Officer for ACF.

Dated: May 16, 2003.
Bob Sargis,
Reports Clearance Officer.

[FR Doc. 03-12908 Filed 5-22-03; 8:45 am]

BILLING CODE 4184-01-M